DEPARTMENT OF TRANSPORTATION

Federal Aviation Administration

Permanent Closure

AGENCY: Federal Aviation Administration (FAA), DOT.

ACTION: Notice.

SUMMARY: The Federal Aviation Administration received written notice from the Alaska Department of Transportation (AKDOT) advising that infrastructure associated with Klawock, Alaska Seaplane Base (AQC) is permanently closed.

DATES: The permanent closure of the seaplane base is retroactively effective.

FOR FURTHER INFORMATION CONTACT: Molly Fierro, Compliance Manager, Federal Aviation Administration, Alaskan Region Airports District Office, 222 W 7th Avenue, Anchorage, AK 99513. Telephone Number: (907) 271-5439/FAX Number: (907) 271-2851.

SUPPLEMENTARY INFORMATION: Ownership of infrastructure associated with AQC was transferred to the City of Klawock in 2003. Subsequent to the ownership transfer, the seaplane dock became unfeasible to utilize and was removed. The FAA hereby retroactively publishes the AKDOTs and City of Klawock's notice of permanent closure of the Klawock Seaplane Base (AQC) in accordance with 49 U.S.C. 46319(b).

Issued in Anchorage, Alaska, on February 9, 2021.
Kristi A. Warden,
Director, Airports Division, FAA, Alaskan Region.

[FR Doc. 2021-02965 Filed 2-12-21; 8:45 am]

BILLING CODE 4910-13-P